DEPARTMENT OF AGRICULTURE

Submission for OMB Review; Comment Request

March 11, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by April 15, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Survey of Customers of the Official Grain Inspection and Weighing System.

OMB Control Number: 0581-0310.

Summary of Collection: The United States Grain Standards Act, as amended (7 U.S.C. 71-87) (USGSA), and the Agricultural Marketing Act of 1946, as amended (7 U.S.C. 1621-1627) (AMA), authorizes the Secretary of the United States Department of Agriculture to establish official inspection, grading, and weighing programs for grains and other agricultural commodities. Under the USGSA and AMA, Grain Inspection, the Packers and Stockyard Administration's (GIPSA) Federal Grain Inspection Service (FGIS) offers inspecting, weighing, grading, quality assurance, and certification services for a user-fee to facilitate the efficient marketing of grain, oilseeds, rice, lentils, dry peas, edible beans, and related agricultural commodities in the global marketplace. The goal of FGIS and the official inspection, grading, and weighing system is to provide timely, high-quality, accurate, consistent, and professional services that facilitates the orderly marketing of grain and related commodities. FGIS will collect information using a link to the survey available on its main website.

Need and Use of the Information: The survey is separated into two parts, customers and non-customers. FGIS is seeking feedback from customers to evaluate the services provided by the official inspection, grading, and weighing programs. Information collected will help to determine where and to what extent services are satisfactory, and where and to what extent they can be improved. FGIS will collect information from entities, such as potential customers or industry representatives that are not currently utilizing FGIS services. Information collected from non-customers will assist FGIS in fully meeting the domestic and international needs of the grain industry as they evolve. The information will be shared with other managers and program leaders who will be responsible for making any necessary improvements at the office/agency, program, and project level.

Description of Respondents: Business or other for-profit; State, Local or Tribal Government.

Number of Respondents: 1,100.

Frequency of Responses: Reporting: Annually.

Total Burden Hours: 109.

Kimble Brown,
Departmental Information Collection Clearance Officer.

[FR Doc. 2019-04764 Filed 3-13-19; 8:45 am]

BILLING CODE 3410-02-P